DEPARTMENT OF ENERGY

Federal Energy Regulatory Commission

[Docket No. RP03-441-001]

ANR Pipeline Company; Notice of Compliance Filing

July 10, 2003.

Take notice that on July 7, 2003, ANR Pipeline Company (ANR), 9 Greenway Plaza, Houston, Texas 77046, tendered for filing Substitute Eleventh Revised Sheet No. 149A for inclusion in ANR's FERC Gas Tariff, Second Revised Volume No. 1. ANR requests that the revised tariff sheet be made effective July 1, 2003.

ANR states that the tariff sheet is being filed in compliance with the Federal Energy Regulatory Commission's June 24, 2003 order regarding ANR's Order No. 587-R compliance filing, requiring ANR to incorporate the Wholesale Gas Quadrant's Standards 1.4.4, 5.4.1, 5.4.3, 5.4.4, 5.4.7 and 5.4.9 by reference to Version 1.6.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 21, 2003.

Magalie R. Salas,
Secretary.

[FR Doc. 03-18033 Filed 7-16-03; 8:45 am]

BILLING CODE 6717-01-P